DEPARTMENT OF TRANSPORTATION

Federal Aviation Administration

14 CFR Part 39

[Docket No. FAA-2006-24290; Directorate Identifier 2005-NM-243-AD; Amendment 39-14731; AD 2006-17-10]

RIN 2120-AA64

Airworthiness Directives; Bombardier Model DHC-8-100, DHC-8-200, and DHC-8-300 Series Airplanes

AGENCY: Federal Aviation Administration (FAA), Department of Transportation (DOT).

ACTION: Final rule.

SUMMARY: The FAA is adopting a new airworthiness directive (AD) for certain Bombardier Model DHC-8-100, DHC-8-200, and DHC-8-300 series airplanes. This AD requires repetitive inspections of the fluorescent light tube assemblies of the cabin, lavatory, and sidewall, and corrective actions if necessary. This AD also provides for optional terminating action for the repetitive inspections. This AD results from reports of overheating due to arcing between the fluorescent tube pins and the lamp holder contacts. The tubes had not been properly seated during installation. We are issuing this AD to prevent fumes, traces of visible smoke, and fire at the fluorescent light tube assembly.

DATES: This AD becomes effective September 27, 2006.

The Director of the Federal Register approved the incorporation by reference of certain publications listed in the AD as of September 27, 2006.

ADDRESSES: You may examine the AD docket on the Internet at http://dms.dot.gov or in person at the Docket Management Facility, U.S. Department of Transportation, 400 Seventh Street SW., Nassif Building, Room PL-401, Washington, DC.

Contact Bombardier, Inc., Bombardier Regional Aircraft Division, 123 Garratt Boulevard, Downsview, Ontario M3K 1Y5, Canada, for service information identified in this AD.

FOR FURTHER INFORMATION CONTACT: Douglas Wagner, Aerospace Engineer, Systems and Flight Test Branch, ANE-172, FAA, New York Aircraft Certification Office, 1600 Stewart Avenue, suite 410, Westbury, New York 11590; telephone (516) 228-7306; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model DHC-8-100, DHC-8-200, and DHC-8-300 series airplanes. That NPRM was published in the Federal Register on April 4, 2006 (71 FR 16725). That NPRM proposed to require repetitive inspections of the fluorescent light tube assemblies of the cabin, lavatory, and sidewall, and corrective actions if necessary. That NPRM also proposed to provide for optional terminating action for the repetitive inspections.

Comments

We provided the public the opportunity to participate in the development of this AD. We have considered the comments received.

Request To Extend Compliance Time

Piedmont Airlines states that its C-check inspection interval can go up to 6,258 flight hours. Piedmont describes the grievous effect the NPRM compliance times will have on the airline. The NPRM specifies a compliance time of 5,000 flight hours or 36 months, whichever occurs first, for the initial compliance time, and repetitive intervals of 5,000 flight hours. The commenter requests that the initial inspection be done within the next C-check or 36 months and that the repetitive interval be done at intervals not to exceed the next C-check.

We agree to extend the compliance time, although we cannot refer to “the next C-check” because the variability among operators' maintenance schedules would not guarantee that the required work would be done within an appropriate time. We have instead revised paragraph (f) of this final rule to require an initial compliance time of 6,300 flight hours or 36 months, whichever occurs first, with a repetitive interval of 6,300 flight hours. We have determined that such an extension will not adversely affect safety, and will allow the work to be performed during regularly scheduled maintenance at a base where special equipment and trained maintenance personnel will be available if necessary.

Request To Clarify Parts Replacement Requirements

Piedmont requests that we clarify paragraph (h) of the NPRM, which prohibits installing a ballast part number (P/N) BA08006-1 or BA08006-28-1 as of the effective date of the AD. Piedmont questions whether that statement applies when parts are removed for other maintenance, or only when the part is replaced.

We acknowledge the commenter's concern, but do not find it necessary to revise the final rule. The intent of paragraph (h) is to specifically prohibit replacing a ballast with another ballast having P/N BA08006-1 or BA08006-28-1. By simply reinstalling a part removed during maintenance, the operator is not “installing” a different part.

Gaining access and installing that part for other maintenance activities not associated with the AD is acceptable.

Additional Change to NPRM

Paragraph (f) of the NPRM refers to “Chapter 33-20-00, Section D,” of the airplane maintenance manual (AMM) as one approved repair method. We have removed the section reference (there is no Section D) in this final rule. Acceptable repair instructions are found in Chapter 33-22-00 of the applicable AMM.

Conclusion

We have carefully reviewed the available data, including the comments received, and determined that air safety and the public interest require adopting the AD with the changes described previously. We have determined that these changes will neither increase the economic burden on any operator nor increase the scope of the AD.

Costs of Compliance

The following table provides the estimated costs for U.S. operators to comply with this AD. This AD will affect about 121 U.S.-registered airplanes.

Estimated Costs, Per Inspection Cycle
Action | Work hours | Average labor rate per hour | Parts | Cost per airplane
Inspection, per inspection cycle | 6 maximum | $80 | None | Up to $480.
Ballast replacement (optional) | 2, per ballast ¹ | 80 | $486, per ballast | Up to $41,344.

¹Number of Ballasts Per Airplane
Area | Airplane model | Number of ballasts
Lavatory | DHC-8-100 and -200 | 1
| DHC-8-300 | 1
Sidewall | DHC-8-100 and -200 | 19
| DHC-8-300 | 30
Cabin | DHC-8-100 and -200 | 21
| DHC-8-300 | 33

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority : 49 U.S.C. 106(g), 40113, 44701.

§ 39.13 [Amended]

2. The Federal Aviation Administration (FAA) amends § 39.13 by adding the following new airworthiness directive (AD):

2006-17-10 BOMBARDIER, INC. (Formerly de Havilland, Inc.): Amendment 39-14731. Docket No. FAA-2006-24290; Directorate Identifier 2005-NM-243-AD.

Effective Date

(a) This AD becomes effective September 27, 2006.

Affected ADs

(b) None.

Applicability

(c) This AD applies to Bombardier Model DHC-8-102, -103, -106, -201, -202, -301, -311, and -315 airplanes; certificated in any category; serial numbers 003 through 407 inclusive, 409 through 412 inclusive, and 414 through 433 inclusive; excluding those with Hunting interiors.

Unsafe Condition

(d) This AD results from reports of overheating due to arcing between the fluorescent tube pins and the lamp holder contacts. The tubes had not been properly seated during installation. We are issuing this AD to prevent fumes, traces of visible smoke, and fire at the fluorescent light tube assembly.

Compliance

(e) You are responsible for having the actions required by this AD performed within the compliance times specified, unless the actions have already been done.

Inspection

(f) Within 6,300 flight hours or 36 months after the effective date of this AD, whichever occurs first: Perform detailed inspections to detect signs of arcing of the fluorescent tube assemblies of the cabin, sidewalls, and lavatory, in accordance with the applicable temporary revision (TR) of the applicable maintenance program manual (MPM) identified in Table 1 of this AD. If any sign of arcing is found, repair before further flight using a method approved by either the Manager, New York Aircraft Certification Office (ACO), FAA; or Transport Canada Civil Aviation (or its delegated agent). Chapter 33-20-00 of the applicable airplane maintenance manual is one approved method. Repeat the inspection at intervals not to exceed 6,300 flight hours, until all ballast part numbers (P/Ns) BA08006-1 or BA08006-28-1 have been replaced in accordance with paragraph (g) of this AD.

Table 1.—TRs
Inspect the fluorescent tube assemblies of the— | In accordance with task— | of de Havilland TR— | To the de Havilland DASH 8 series— | For model—
Cabin | 3320/01 | MRB-146, dated August 31, 2004 | 100 MPM PSM 1-8-7 | DHC-8-102, -103, and -106 airplanes.
| 3320/01 | MRB 2-24, dated August 31, 2004 | 200 MPM PSM 1-82-7 | DHC-8-201 and -202 airplanes.
| 3320/01 | MRB 3-155, dated August 31, 2004 | 300 MPM PSM 1-83-7 | DHC-8-301, -311, and -315 airplanes.
Lavatory | 3320/03 | MRB-147, dated May 3, 2005 | 100 MPM PSM 1-8-7 | DHC-8-102, -103, -106 airplanes.
| 3320/03 | MRB 2-25, dated May 3, 2005 | 200 MPM PSM 1-82-7 | DHC-8-201 and -202 airplanes.
| 3320/03 | MRB 3-156, dated May 3, 2005 | 300 MPM PSM 1-83-7 | DHC-8-301, -311, and -315 airplanes.
Sidewall | 3320/02 | MRB-147, dated May 3, 2005 | 100 MPM PSM 1-8-7 | DHC-8-102, -103, and -106 airplanes.
| 3320/02 | MRB 2-25, dated May 3, 2005 | 200 MPM PSM 1-82-7 | DHC-8-201 and -202 airplanes.
| 3320/02 | MRB 3-156, dated May 3, 2005 | 300 MPM PSM 1-83-7 | DHC-8-301, -311, and -315 airplanes.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Terminating Action

(g) The repetitive inspections required by this AD may be terminated if all ballasts installed on the airplane have P/N BR9000-21, installed in accordance with the Accomplishment Instructions of Bombardier Service Bulletin 8-33-51, Revision ‘A,’ dated April 20, 2005 (to replace ballast P/N BA08006-1), or 8-33-52, dated April 15, 2005 (to replace ballast P/N BA08006-28-1). Ballasts installed before the effective date of this AD are also acceptable if done in accordance with Bombardier Service Bulletin 8-33-51, dated August 16, 2002.

Parts Installation

(h) As of the effective date of this AD: No person may install a ballast P/N BA08006-1 or BA08006-28-1 on any airplane.

Alternative Methods of Compliance (AMOCs)

(i)(1) The Manager, New York ACO, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) Canadian airworthiness directive CF-2004-26R1, dated September 28, 2005, also addresses the subject of this AD.

Material Incorporated by Reference

(k) You must use the service information identified in Table 2 of this AD to perform the actions that are required by this AD, unless the AD specifies otherwise.

Table 2.—Material Incorporated by Reference
de Havilland Temporary Revision— | To the de Havilland DASH 8 Series—
MRB-146, dated August 31, 2004 | 100 Maintenance Program Manual PSM 1-8-7.
MRB-147, dated May 3, 2005 | 100 Maintenance Program Manual PSM 1-8-7.
MRB 2-24, dated August 31, 2004 | 200 Maintenance Program Manual PSM 1-82-7.
MRB 2-25, dated May 3, 2005 | 200 Maintenance Program Manual PSM 1-82-7.
MRB 3-155, dated August 31, 2004 | 300 Maintenance Program Manual PSM 1-83-7.
MRB 3-156, dated May 3, 2005 | 300 Maintenance Program Manual PSM 1-83-7.

(Page 2 of de Havilland Temporary Revision MRB-147, dated May 3, 2005, incorrectly refers to Series 300 airplanes; that reference should be to Series 100.) If the terminating action is accomplished, you must use Bombardier Service Bulletin 8-33-51, Revision ‘A,’ dated April 20, 2005; or Bombardier Service Bulletin 8-33-52, dated April 15, 2005, as applicable, to perform the optional terminating action specified in this AD. The Director of the Federal Register approved the incorporation by reference of these documents in accordance with 5 U.S.C. 552(a) and 1 CFR part 51. Contact Bombardier, Inc., Bombardier Regional Aircraft Division, 123 Garratt Boulevard, Downsview, Ontario M3K 1Y5, Canada, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 14, 2006.
Ali Bahrami,
Manager, Transport Airplane Directorate, Aircraft Certification Service.

[FR Doc. E6-13829 Filed 8-22-06; 8:45 am]

BILLING CODE 4910-13-P